DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: November 16, 2023, 10:00 a.m.

PLACE: Room 2C, 888 First Street NE, Washington, DC 20426, Open to the public.

STATUS: Open.

MATTERS TO BE CONSIDERED: Agenda.

* NOTE—Items listed on the agenda may be deleted without further notice.

CONTACT PERSON FOR MORE INFORMATION: Kimberly D. Bose, Secretary, Telephone (202) 502-8400.

For a recorded message listing items stricken from or added to the meeting, call (202) 502-8627.

This is a list of matters to be considered by the Commission. It does not include a listing of all documents relevant to the items on the agenda. All public documents, however, may be viewed online at the Commission's website at https://elibrary.ferc.gov/eLibrary/search using the eLibrary link.

1106th—Meeting
[Open Meeting; November 16, 2023; 10:00 a.m.]
Item No. | Docket No. | Company
Administrative
A-1 | AD24-1-000 | Agency Administrative Matters.
A-2 | AD24-2-000 | Customer Matters, Reliability, Security and Market Operations.
A-3 | AD06-3-000 | Market Update.
A-4 | AD07-13-017 | FY2023 Report on Enforcement.
Electric
E-1 | ER22-2185-001, ER22-2185-000 | Black Hills Colorado Electric, LLC.
E-2 | ER20-1041-003 | Wabash Valley Power Association, Inc.
E-3 | EL21-78-000 | PJM Interconnection, L.L.C.
E-4 | ER23-2656-000 | Louisville Gas and Electric Company and Kentucky Utilities Company.
| ER23-2662-000 | Kentucky Utilities Company.
| ER21-894-000, ER21-895-000, ER21-896-000, ER21-897-000, ER21-900-000, ER21-904-000 (Consolidated) | Louisville Gas and Electric Company and Kentucky Utilities Company.
| ER21-894-002 | Louisville Gas and Electric Company and Kentucky Utilities Company.
E-5 | EC98-2-006, ER18-2162-005 | Louisville Gas and Electric Company and Kentucky Utilities Company.
E-6 | ER23-2893-000, TS23-8-000 | Horus West Virginia I, LLC.
E-7 | EL24-2-000 | EverBright, LLC.
E-8 | EL23-86-000 | The Carlyle Group Inc. and NineDot Energy, LLC.
E-9 | ER22-682-004, ER22-682-000, ER22-682-003 | Duke Energy Progress, LLC.
E-10 | ER23-2033-001 | ITC Midwest, LLC.
E-11 | ER23-1335-000 | Ameren Illinois Company.
Gas
G-1 | OR18-7-002 | Epsilon Trading, LLC, Chevron Products Company, and Valero Marketing and Supply Company v. Colonial Pipeline Company.
| OR18-12-002 | BP Products North America, Inc., Trafigura Trading LLC, and TCPU, Inc. v. Colonial Pipeline Company.
| OR18-17-002 | TransMontaigne Product Services LLC v. Colonial Pipeline Company.
| OR19-1-001 | Southwest Airlines Co. and United Aviation Fuels Corporation v. Colonial Pipeline Company.
| OR19-4-001 | Phillips 66 Company v. Colonial Pipeline Company.
| OR19-16-001 | American Airlines, Inc. v. Colonial Pipeline Company.
| OR19-20-000 | Metroplex Energy, Inc. v. Colonial Pipeline Company.
| OR19-27-000 | Gunvor USA LLC v. Colonial Pipeline Company.
| OR19-36-000 | Pilot Travel Centers, LLC v. Colonial Pipeline Company.
| OR20-7-000, OR20-9-000 (consolidated) | Sheetz, Inc. v. Colonial Pipeline Company, Apex Oil Company, Inc. and FutureFuel Chemical Company v. Colonial Pipeline Company.
G-2 | OR18-7-003 | Epsilon Trading, LLC, Chevron Products Company, and Valero Marketing and Supply Company v. Colonial Pipeline Company.
| OR18-12-003 | BP Products North America, Inc., Trafigura Trading LLC, and TCPU, Inc. v. Colonial Pipeline Company.
| OR18-17-003 | TransMontaigne Product Services LLC v. Colonial Pipeline Company.
| OR19-1-002 | Southwest Airlines Co. and United Aviation Fuels Corporation v. Colonial Pipeline Company.
| OR19-4-002 | Phillips 66 Company v. Colonial Pipeline Company.
| OR19-16-002 | American Airlines, Inc. v. Colonial Pipeline Company.
| OR19-20-001 | Metroplex Energy, Inc. v. Colonial Pipeline Company.
| OR19-27-001 | Gunvor USA LLC v. Colonial Pipeline Company.
| OR19-36-001 | Pilot Travel Centers, LLC v. Colonial Pipeline Company.
| OR20-7-001 | Sheetz, Inc. v. Colonial Pipeline Company.
| OR20-9-001 (consolidated) | Apex Oil Company, Inc. and FutureFuel Chemical Company v. Colonial Pipeline Company.
G-3 | OMITTED
Hydro
H-1 | P-3472-026 | Aspinook Hydro, LLC.
H-2 | P-15111-001 | Saugerties Community Hydro, LLC.
H-3 | P-2934-042 | New York State Electric & Gas Corporation.
Certificates
C-1 | CP22-502-000 | Transcontinental Gas Pipe Line Company, LLC.
| CP22-503-000 | Columbia Gas Transmission, LLC.
C-2 | OMITTED
C-3 | CP23-468-000 | Virginia Electric and Power Company.
C-4 | CP20-50-002 | Tennessee Gas Pipeline Company, L.L.C.
C-5 | CP22-501-000 | Transcontinental Gas Pipe Line Company, LLC.
C-6 | CP20-528-002, CP20-529-001 | Stingray Pipeline Company, L.L.C.

A free webcast of this event is available through the Commission's website. Anyone with internet access who desires to view this event can do so by navigating to www.ferc.gov's Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: November 9, 2023.
Kimberly D. Bose,
Secretary.

[FR Doc. 2023-25400 Filed 11-14-23; 11:15 am]

BILLING CODE 6717-01-P